DEPARTMENT OF TRANSPORTATION

Federal Aviation Administration

14 CFR Part 39

[Docket No. FAA-2005-22560; Directorate Identifier 2005-NM-061-AD; Amendment 39-14408; AD 2005-25-15]

RIN 2120-AA64

Airworthiness Directives; Dassault Model Falcon 2000 Airplanes Equipped With CFE Company CFE738-1-1B Turbofan Engines

AGENCY: Federal Aviation Administration (FAA), Department of Transportation (DOT).

ACTION: Final rule.

SUMMARY: The FAA is adopting a new airworthiness directive (AD) for certain Dassault Model Falcon 2000 airplanes equipped with CFE Company CFE738-1-1B turbofan engines. This AD requires determining the serial number of the engines installed on the airplane, inspecting any affected engine to verify that a spherical bearing is installed on the attachment fitting of the engine mount, and corrective action if necessary. This AD results from a report of a missing spherical bearing on the attachment fitting of the front engine mount on an in-service airplane, and subsequent damage and abnormal fatigue of the attachment fitting. We are issuing this AD to prevent reduced structural integrity of the engine mount, which could result in possible separation of an engine from the airplane.

DATES: This AD becomes effective January 17, 2006.

The Director of the Federal Register approved the incorporation by reference of a certain publication listed in the AD as of January 17, 2006.

ADDRESSES: You may examine the AD docket on the Internet at http://dms.dot.gov or in person at the Docket Management Facility, U.S. Department of Transportation, 400 Seventh Street SW., Nassif Building, room PL-401, Washington, DC.

Contact Dassault Falcon Jet, P.O. Box 2000, South Hackensack, New Jersey 07606, for service information identified in this AD.

FOR FURTHER INFORMATION CONTACT: Tom Rodriguez, Aerospace Engineer, International Branch, ANM-116, Transport Airplane Directorate, FAA, 1601 Lind Avenue, SW., Renton, Washington 98055-4056; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply certain Dassault Model Falcon 2000 airplanes equipped with CFE Company CFE738-1-1B turbofan engines. That NPRM was published in the Federal Register on September 30, 2005 (70 FR 57217). That NPRM proposed to require determining the serial number of the engines installed on the airplane, inspecting any affected engine to verify that a spherical bearing is installed on the attachment fitting of the engine mount, and corrective action if necessary.

Comments

We provided the public the opportunity to participate in the development of this AD. We received no comments on the NPRM or on the determination of the cost to the public.

Conclusion

We have carefully reviewed the available data and determined that air safety and the public interest require adopting the AD as proposed.

Clarification of Alternative Method of Compliance (AMOC) Paragraph

We have changed this AD to clarify the appropriate procedure for notifying the principal inspector before using any approved AMOC on any airplane to which the AMOC applies.

Costs of Compliance

This inspection affects about 7 airplanes of U.S. registry. The inspection will take about 2 work hours per airplane, at an average labor rate of $65 per work hour. Based on these figures, the estimated cost of the AD for U.S. operators is $910, or $130 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-25-15 Dassault Aviation: Amendment 39-14408. Docket No. FAA-2005-22560; Directorate Identifier 2005-NM-061-AD

Effective Date

(a) This AD becomes effective January 17, 2006.

Affected ADs

(b) None.

Applicability

(c) This AD applies to Dassault Model Falcon 2000 airplanes, certificated in any category; equipped with CFE Company CFE738-1-1B turbofan engines.

Unsafe Condition

(d) This AD results from a report of a missing spherical bearing on the attachment fitting of the front engine mount on an in-service airplane, and subsequent damage and abnormal fatigue of the attachment fitting. We are issuing this AD to prevent reduced structural integrity of the engine mount, which could result in possible separation of an engine from the airplane.

Compliance

(e) You are responsible for having the actions required by this AD performed within the compliance times specified, unless the actions have already been done.

Determine Serial Number (S/N) and Inspect if Necessary

(f) Within the applicable compliance time specified in paragraph (f)(1), (f)(2), or (f)(3) of this AD: Determine the serial number of the engines installed on the airplane, as identified in the table in paragraph 1.A., “Effectivity,” of Dassault Service Bulletin F2000-299, dated July 23, 2004; if any affected serial number is found on any engine, perform a borescope inspection to verify that a spherical bearing is installed on the attachment fitting of the front engine mount by doing all the applicable actions specified in the Accomplishment Instructions of the service bulletin.

(1) For airplanes with any engine having 850 total landings or less as of the effective date of this AD: Before the accumulation of 880 total landings on the engine.

(2) For airplanes with any engine having more than 850 total landings, but 1,000 total landings or less as of the effective date of this AD: Within 1 month after the effective date of this AD.

(3) For airplanes with any engine having more than 1,000 total landings as of the effective date of this AD: Within 10 landings after the effective date of this AD.

Corrective Action

(g) If any spherical bearing is found missing during the inspection required by paragraph (f) of this AD: Before further flight, repair according to a method approved by either the Manager, International Branch, ANM-116, Transport Airplane Directorate, FAA; or the Direction Générale de l'Aviation Civile (or its delegated agent).

No Reporting Requirement

(h) This AD does not require submitting reporting information to the manufacturer.

Alternative Methods of Compliance (AMOCs)

(i)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(j) French airworthiness directive F-2004-128, issued August 4, 2004, also addresses the subject of this AD.

Material Incorporated by Reference

(k) You must use Dassault Service Bulletin F2000-299, dated July 23, 2004, to perform the actions that are required by this AD, unless the AD specifies otherwise. The Director of the Federal Register approved the incorporation by reference of this document in accordance with 5 U.S.C. 552(a) and 1 CFR part 51. Contact Dassault Falcon Jet, P.O. Box 2000, South Hackensack, New Jersey 07606, for a copy of this service information. You may review copies at the Docket Management Facility, U.S. Department of Transportation, 400 Seventh Street, SW., room PL-401, Nassif Building, Washington, DC; on the internet at http://dms.dot.gov; or at the National Archives and Records Administration (NARA). For information on the availability of this material at the NARA, call (202) 741-6030, or go to http://www.archives.gov/federal_register/code_of_federal_regulations/ibr_locations.html.

Issued in Renton, Washington, on December 2, 2005.
Kalene C. Yanamura,
Acting Manager, Transport Airplane Directorate, Aircraft Certification Service.

[FR Doc. 05-23829 Filed 12-12-05; 8:45 am]

BILLING CODE 4910-13-P